DEPARTMENT OF HOMELAND SECURITY

Coast Guard

[Docket No. CGD09-07-126]

Great Lakes Regional Waterways Management Forum

AGENCY: Coast Guard, DHS.

ACTION: Notice of meeting.

SUMMARY: “The Great Lakes Regional Waterways Management Forum” will hold a meeting to discuss various waterways management issues. Potential agenda items will include navigation, ballast water regulations, waterways management, Great Lakes water levels, and discussions about the agenda for the next meeting. The meeting will be open to the public.

DATES: The meeting will be held December 10, 2007 from 1 p.m. to 5 p.m. Comments must be submitted on or before December 6, 2007 to be considered at the meeting.

ADDRESSES: The meeting will be held at the Village Inn, 751 Christina Street, Point Edward, Ontario. Any written comments and materials should be submitted to Commander (dpw-2), Ninth Coast Guard District, 1240 E. 9th Street, Room 2069, Cleveland, OH 44199.

FOR FURTHER INFORMATION CONTACT: Doug Sharp (dpw-2), Ninth Coast Guard District, OH 44199, telephone (216) 902-6070. Persons with disabilities requiring assistance to attend this meeting should contact Doug Sharp.

SUPPLEMENTARY INFORMATION: The Great Lakes Waterways Management Forum identifies and resolves waterways management issues that involve the Great Lakes region. The forum meets twice a year to assess the Great Lakes region, assign priorities to areas of concern, and identify issues for resolution.

The forum membership has identified potential agenda items for this meeting that include: navigation, ballast water regulations, waterways management, Great Lakes water levels, and discussions about the agenda for the next meeting. The Forum will also provide updates from the Canadian Coast Guard, Transport Canada, U.S. Coast Guard, and the U.S. Army Corps of Engineers on regional projects and operations.

Dated: November 6, 2007.
John E. Crowley, Jr.,
Rear Admiral, U.S. Coast Guard, Commander, Ninth Coast Guard District, Cleveland, Ohio.

[FR Doc. 07-5687 Filed 11-15-07; 8:45 am]

BILLING CODE 4910-15-P